DEPARTMENT OF LABOR

Employment and Training Administration

[NAFTA-04554 and NAFTA-4554A]

Haggar Clothing Company Edinburg Manufacturing Waxahachie Garment Company Edinburg Direct Garment Company, Inc. Edinburg, TX, Haggar Clothing Company Weslaco Operations Weslaco Direct Cutting Company, Inc Weslaco Cutting Inc. Weslaco, TX; Amended Certification Regarding Eligibility to Apply for NAFTA-Transitional Adjustment Assistance

In accordance with Section 250(A), Subchapter D, Chapter 2, Title II, of the Trade Act of 1974 (19 U.S.C. 2273), the Department of Labor issued a Certification or NAFTA Transitional Adjustment Assistance on May 3, 2001, applicable to workers of Haggar Clothing Company, Edinburg Manufacturing, Edinburg, Texas and Haggar Clothing Company, Weslaco Operations, Weslaco, Texas. The notice was published in the Federal Register on May 18, 2001 (66 FR 27691).

At the request of the State agency, the Department reviewed the certification for workers of the subject firm. The workers are engaged in the production of men's coats and pants. New information shows that some workers separated from employment at the subject firm had their wage reported under two separate unemployment insurance (UI) tax accounts: Haggar Clothing Company, Edinburg Manufacturing, Waxahachie Garment Company, Edinburg Direct Garment Company, Inc., and Haggar Clothing Company, Weslaco Operations, Weslaco Direct Cutting Company, Inc., Weslaco Cutting, Inc.

Accordingly, the Department is amending the certification to properly reflect this matter.

The intent of the Department's certification is to include all workers of Haggar Clothing Company, Edinburg Manufacturing, Waxahchie Garment Company, Edinburg Direct Garment Company, Inc. and Haggar Clothing Company, Weslaco Operations, Weslaco Direct Cutting Company, Inc., Weslaco Cutting, Inc. who were adversely affected by a shift of Production of men's coats and pants to Mexico.

The amended notice applicable to NAFTA-04554 and NAFT-4554A is hereby issued as follows:

“All workers of Haggar Clothing Company, Edinburg Manufacturing, Waxahachie Garment Company, Edinburg Director Garment Company, Inc., Einburg, Texas (NAFTA-4554) and Haggar Clothing Company, Weslaco Operations Weslaco Direct Cutting Company, Inc., Weslaco Cutting, Inc., Weslaco, Texas (NAFTA-4554A) who became totally or partially separated from employment on or after May 1, 2001, through May 3, 2003, are eligible to apply for NAFTA-TAA under Section 250 of the Trade Act of 1974.”

Signed at Washington, D.C. this 8th day of June, 2001.
Edward A. Tomchick,
Director, Division of Trade Adjustment Assistance.

[FR Doc. 01-16156 Filed 6-26-01; 8:45 am]

BILLING CODE 4510-30-M